DEPARTMENT OF DEFENSE

Office of the Secretary

Open Meeting Notice; Advisory Council on Dependents' Education

AGENCY: Department of Defense Education Activity (DoDEA), Department of Defense (DoD).

ACTION: Open meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Advisory Council on Dependents' Education will take place.

DATES: Tuesday, December 13, 2011, 8 a.m. to 12 p.m., Eastern Standard Time.

ADDRESSES: 4040 North Fairfax Drive, Arlington, VA 22203.

FOR FURTHER INFORMATION CONTACT: Dr. Steve Schrankel, 4040 North Fairfax Drive, Arlington, VA 22203, at (703) 588-3109, or Steve.Schrankel@hq.dodea.edu.

SUPPLEMENTARY INFORMATION: Purpose of the Meeting: Recommend to the Director, DoDEA, general policies for the operation of the Department of Defense Dependents Schools (DoDDS); to provide the Director with information about effective educational programs and practices that should be considered by DoDDS; and to perform other tasks as may be required by the Secretary of Defense.

Agenda: The meeting agenda will reflect current DoDDS schools operational status, educational practices, and other educational matters that come before the Council. Public's Accessibility to the Meeting: Pursuant to 5 U.S.C. 552b and 41 CFR 102-3.140 through 102-3.165 and the availability of space, this meeting is open to the public. Seating is on a first-come basis.

Special Accommodations: Individuals requiring special accommodations to access the public meeting should contact Dr. Schrankel at least five (5) business days prior to the meeting so that appropriate arrangements can be made.

Pursuant to 41 CFR 102-3.105(j) and 102-3.140 and section 10(a)(3) of the Federal Advisory Committee Act of 1972, the public or interested organizations may submit written statements to the Advisory Council on Dependents' Education about its mission and functions. Written statements may be submitted at any time or in response to the stated agendas of the planned meeting of the Advisory Council on Dependents' Education.

All written statements shall be submitted to the Designated Federal Officer (DFO) for the Advisory Council on Dependents' Education, Dr. Patrick A. Dworakowski, 4040 North Fairfax Drive, Arlington, VA 22203; Patrick.Dworakowski@hq.dodea.edu. Statements being submitted in response to the agendas mentioned in this notice must be received by the DFO at the address listed above at least fourteen calendar days prior to the meeting, which is the subject of this notice. Written statements received after this date may not be provided to or considered by the Advisory Council on Dependents' Education until its next meeting.

The DFO will review all timely submissions with the Advisory Council on Dependents' Education Chairpersons and ensure they are provided to all members of the Advisory Council on Dependents' Education before the meeting that is the subject of this notice. Oral Statements by the Public to the Membership: Pursuant to 41 CFR 102-3.140(d), time will be allotted for public comments to the Advisory Council on Dependents' Education. Individual comments will be limited to a maximum of five minutes duration. The total time allotted for public comments will not exceed thirty minutes.

Dated: August 17, 2011.
Aaron Siegel,
Alternate OSD Federal Register Liaison Officer, Department of Defense.

[FR Doc. 2011-21470 Filed 8-22-11; 8:45 am]

BILLING CODE 5001-06-P